DEPARTMENT OF EDUCATION

34 CFR Chapter VI

Negotiated Rulemaking Committees; Establishment

AGENCY: Office of Postsecondary Education, Department of Education.

ACTION: Establishment of negotiated rulemaking committees; and notice of public hearings.

SUMMARY: We announce our intention to establish one or more negotiated rulemaking committees to prepare proposed regulations under Title IV of the Higher Education Act of 1965, as amended (HEA). The committees will include representatives of organizations or groups with interests that are significantly affected by the subject matter of the proposed regulations. We also announce three public hearings, at which interested parties may suggest additional issues that should be considered for action by the negotiating committees. In addition, for anyone unable to attend a public hearing, we announce that the Department will accept written comments.

The Department will also be conducting forums after each of the three hearings to discuss (1) how changes in the Department's financial aid communications and processes (including the Free Application for Federal Student Aid (FAFSA)) could improve college planning, preparation and access, and (2) how best to leverage Federal postsecondary programs to foster student educational persistence and degree attainment.

DATES: The dates, times, and locations of the public hearings are listed under the SUPPLEMENTARY INFORMATION section of this notice. We must receive written comments suggesting issues that should be considered for action by the negotiating committees on or before June 23, 2009.

ADDRESSES: Please send written comments to Wendy Macias, U.S. Department of Education, 1990 K Street, NW., Room 8017, Washington, DC 20006, or by fax to Wendy Macias at (202) 502-7874. You may also e-mail your comments to negreg09@ed.gov.

FOR FURTHER INFORMATION CONTACT: For information about the public hearings and forums, go to http://www.ed.gov/policy/highered/reg/hearulemaking/2009/negreg-summerfall.html or contact: Mary Miller, U.S. Department of Education, 1990 K Street, NW., Room 8066, Washington, DC 20006. Telephone: (202) 502-7824. You may also e-mail your questions about the public hearings to: Mary.Miller@ed.gov.

For information about negotiated rulemaking in general, see The Negotiated Rulemaking Process for Title IV Regulations, Frequently Asked Questions at http://www.ed.gov/policy/highered/reg/hearulemaking/hea08/neg-reg-faq.html. For further information about negotiated rulemaking contact: Wendy Macias, U.S. Department of Education, 1990 K Street, NW., Room 8017, Washington, DC 20006. Telephone (202) 502-7526. You may also e-mail your questions about negotiated rulemaking to: Wendy.Macias@ed.gov.

If you use a telecommunications device for the deaf (TDD), call the Federal Relay Service (FRS), toll free, at 1-800-877-8339.

Individuals with disabilities can obtain this document in an accessible format (e.g., braille, large print, audiotape, or computer diskette) by contacting the person responsible for information about the public hearings.

SUPPLEMENTARY INFORMATION: Section 492 of the HEA requires that, before publishing any proposed regulations to implement programs authorized under Title IV of the HEA, the Secretary obtain public involvement in the development of the proposed regulations. After obtaining advice and recommendations from the public, the Secretary uses a negotiated rulemaking process to develop the proposed regulations.

We announce our intent to develop proposed regulations by following the negotiated rulemaking procedures in section 492 of the HEA. We intend to select participants for the negotiated rulemaking committees from nominees of the organizations and groups that represent the interests significantly affected by the proposed regulations. To the extent possible, we will select, from the nominees, individual negotiators who reflect the diversity among program participants, in accordance with section 492(b)(1) of the HEA.

Regulatory Issues

We intend to convene one committee to develop proposed regulations governing foreign schools, including the implementation of the changes made to the HEA by the Higher Education Opportunity Act (HEOA), Public Law 110-315, that affect foreign schools.

We intend to convene at least one other committee to develop proposed regulations to maintain or improve program integrity in the Title IV, HEA programs, relating to topics such as the following:

• Satisfactory academic progress.

• Incentive compensation paid by institutions to persons or entities engaged in student recruiting or admission activities.

• Gainful employment in a recognized occupation.

• State authorization as a component of institutional eligibility.

• Definition of a credit hour, for purposes of determining program eligibility status, particularly in the context of awarding Pell Grants.

• Verification of information included on student aid applications.

• Definition of a high school diploma as a condition of receiving Federal student aid.

After a complete review of the public comments presented at the public hearings and from the written submissions, we will publish a subsequent notice (or notices) announcing the specific subject areas for which we intend to establish negotiated rulemaking committees, and a request for nominations for individual negotiators for those committees who represent the interests significantly affected by the proposed regulations.

Public Hearings

We will hold three public hearings for interested parties to discuss the agenda for the negotiated rulemaking sessions. The public hearings will be held on:

• June 15-16, 2009 at the Community College of Denver.

• June 18-19, 2009 at the University of Arkansas at Little Rock.

• June 22-23, 2009 at the Community College of Philadelphia.

The public hearings will be held from 9 a.m.-4 p.m., local time. Further information on the public hearing sites, including addresses and directions, is available at http://www.ed.gov/policy/highered/reg/hearulemaking/2009/negreg-summerfall.html.

On the day following each public hearing, the Department will also be conducting two forums at the same location as the public hearing, from 9 a.m.-1 p.m., local time. These forums will be conducted concurrently. One forum will focus on approaches to the Department's financial aid communications and processes (including the FAFSA) that could improve college planning, preparation and access. The other forum will focus on ways that Federal postsecondary programs could play a stronger role in fostering student educational persistence and degree attainment. While the Department will be inviting representatives of students, families, college access professionals, and college success practitioners to participate in these forums, the forums will be open to the public with opportunities for public comment provided.

Individuals desiring to present comments at the public hearings are encouraged to do so. It is likely that each participant choosing to make a statement will be limited to five minutes. Individuals interested in making oral statements will be able to register to make a statement beginning at 8:30 a.m. on the day of the public hearing at the Department's on-site registration table on a first-come, first-served basis. If additional time slots remain, individuals may be given additional time to speak. If no time slots remain, the Department has reserved one additional hour at the end of the day for individuals who were not able to register to speak. The amount of time available will depend upon the number of individuals who register to speak. Speakers may also submit written comments. In addition, for anyone unable to attend a public hearing, the Department will accept written comments through June 23, 2009. (See the ADDRESSES section of this notice for submission information.)

The public hearing sites are accessible to individuals with disabilities. Individuals needing an auxiliary aid or service to participate in the hearing or a forum (e.g., interpreting service, assistive listening device, or materials in alternative format) should notify the contact person for information about hearings listed under FOR FURTHER INFORMATION CONTACT in this notice in advance of the scheduled hearing date. Although we will attempt to meet any request we receive, we may not be able to make available the requested auxiliary aid or service because of insufficient time to arrange it.

Schedule for Negotiations

We anticipate that these committees will begin negotiations in September 2009, with each committee meeting for three sessions of approximately three days at roughly monthly intervals. The committees will meet in the Washington, DC area. The dates and locations of these meetings will be published in a subsequent notice in the Federal Register, and will be posted on the Department's Web site at: http://www.ed.gov/policy/highered/reg/hearulemaking/2009/negreg-summerfall.html.

Electronic Access to This Document

You may view this document, in text or Adobe Portable Document Format (PDF), on the Internet at the following site: http://www.ed.gov/news/fedregister. To use PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1098a.

Delegation of Authority: The Secretary of Education has delegated authority to Daniel T. Madzelan, Director, Forecasting and Policy Analysis for the Office of Postsecondary Education, to perform the functions of the Assistant Secretary for Postsecondary Education.

Dated: May 20, 2009.
Daniel T. Madzelan,
Director, Forecasting and Policy Analysis.

[FR Doc. E9-12092 Filed 5-22-09; 8:45 am]

BILLING CODE 4000-01-P